RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for a review and approval.

Summary of Proposal(s):

(1) Collection title: Statement Regarding Contributions and Support of Children.

(2) Form(s) submitted: G-139.

(3) OMB Number: 3220-0195.

(4) Expiration date of current OMB clearance: 5/31/2002.

(5) Type of request: Extension of a currently approved collection.

(6) Respondents: Individuals or households.

(7) Estimated annual number of respondents: 500.

(8) Total annual responses: 500.

(9) Total annual reporting hours: 125.

(10) Collection description: Dependency on the employee for at least one-half support is a condition affecting eligibility for increasing an employee or spouse annuity under the social security minimum overall provisions on the basis of the presence of a dependent child, the employee's natural child in limited situations, adopted children, stepchildren, grandchildren, and step-grandchildren. The information collected solicits financial information needed to determine entitlement to a child's annuity based on actual dependency.

Additional Information or Comments Copies of the forms and supporting documents can be obtained from Chuck Mierzwa, the agency clearance officer (312-751-3363). Comments regarding the information collection should be addressed to Ronald J. Hodapp, Railroad Retirement Board, 844 North Rush Street, Chicago, Illinois 60611-2092 and to the OMB Desk Officer for the RRB, at the Office of Management and Budget, Room 10230, New Executive Office Building, Washington, DC 20503.

Chuck Mierzwa,
Clearance Officer.

[FR Doc. 02-8023 Filed 4-2-02; 8:45 am]

BILLING CODE 7905-01-M